DEPARTMENT OF COMMERCE

International Trade Administration

(A-421-811)

Purified Carboxymethylcellulose From the Netherlands; Extension of Time Limit for Final Results of Antidumping Duty Administrative Review

AGENCY: Import Administration, International Trade Administration, Department of Commerce.

EFFECTIVE DATE: September 24, 2009.

FOR FURTHER INFORMATION CONTACT: Patrick Edwards, Brian Davis, or Angelica Mendoza, AD/CVD Operations, Office 7, Import Administration, International Trade Administration, U.S. Department of Commerce, 14th Street and Constitution Avenue NW, Washington, DC 20230; telephone: (202) 482-8029, (202) 482-7924, or (202) 482-3019, respectively.

SUPPLEMENTARY INFORMATION:

Background

The Department of Commerce (the Department) initiated an administrative review of the antidumping duty order on purified carboxymethylcellulose (CMC) from the Netherlands on August 26, 2008. See Initiation of Antidumping and Countervailing Duty Administrative Reviews, 73 FR 50308 (August 26, 2008).¹ On May 26, 2009, the Department published the preliminary results of the administrative review of the antidumping duty order covering purified CMC from the Netherlands. See Purified Carboxymethylcellulose from the Netherlands; Preliminary Results of Antidumping Duty Administrative Review, 74 FR 24823 (May 26, 2009) (Preliminary Results). In the Preliminary Results, we invited parties to comment. In response, CP Kelco submitted a case brief and a request for a public hearing on June 26, 2009. See Case Brief from Arent Fox LLP (counsel for respondent) titled “Purified Carboxymethylcellulose from the Netherlands; Case Brief of CP Kelco B.V.,” dated June 26, 2009 (Case Brief). Petitioner submitted comments on June 30, 2009. See Letter from Haynes & Boone, LLP (counsel for petitioner), titled “Comment by Petitioner Aqualon Company in Lieu of Reply Brief,” dated June 30, 2009. CP Kelco subsequently contacted officials at the Department and withdrew its request for a public hearing. See CP Kelco's “Withdrawal of Hearing Request,” dated July 2, 2009. In lieu of a public hearing, counsel for respondent requested a meeting with Department officials. See the Memorandum to the File, titled “Administrative Review of the Antidumping Duty Order on Purified Carboxymethylcellulose from the Netherlands: Meeting with Counsel for Respondent,” dated July 15, 2009. The current deadline for the final results of this review is September 23, 2009.

¹ On October 9, and October 10, 2008, respectively, Akzo Nobel Functional Chemicals B.V. (Akzo Nobel) and the Aqualon Company, a division of Hercules, Incorporated (petitioner), withdrew their requests for review of Akzo Nobel's sales of merchandise covered by the order. Therefore, the Department rescinded the review with respect to Akzo Nobel. See Purified Carboxymethylcellulose from the Netherlands: Partial Rescission of Antidumping Duty Administrative Review, 73 FR 66841 (November 12, 2008).

Extension of Time Limits for Final Results

Section 751(a)(3)(A) of the Tariff Act of 1930, as amended (the Act), requires the Department to complete the final results of an administrative review within 120 days after the date on which the preliminary results are published. However, if it is not practicable to complete the review within these time periods, section 751(a)(3)(A) of the Act allows the Department to extend the 120 day time period for the final results to 180 days.

The Department has determined it is not practicable to complete this administrative review within the statutory time limit because the Department requires additional time to fully evaluate the comments put forth by CP Kelco, particularly the extensive comments concerning the nature of reported factoring expenses. Accordingly, the Department is extending the time limit for completion of the final results of this administrative review until no later than October 7, 2009, which is 134 days after the date on which the preliminary results of review were published.

This extension is issued and published in accordance with sections 751(a)(3)(A) and 777(i) of the Act.

Dated: September 18, 2009.
John M. Andersen,
Acting Deputy Assistant Secretary for Antidumping and Countervailing Duty Operations.

[FR Doc. E9-23115 Filed 9-23-09; 8:45 am]

BILLING CODE 3510-DS-S